DEPARTMENT OF DEFENSE

GENERAL SERVICES ADMINISTRATION

NATIONAL AERONAUTICS AND SPACE ADMINISTRATION

48 CFR Parts 1, 4, 9, 13, 39, and 52

[FAR Case 2020-011; Docket No. FAR-2020-011; Sequence No. 1]

RIN 9000-AO13

Federal Acquisition Regulation: Implementation of Federal Acquisition Supply Chain Security Act (FASCSA) Orders

AGENCY: Department of Defense (DoD), General Services Administration (GSA), and National Aeronautics and Space Administration (NASA).

ACTION: Interim rule; extension of comment period.

SUMMARY: DoD, GSA, and NASA issued an interim rule on October 5, 2023, amending the Federal Acquisition Regulation (FAR) to implement supply chain risk information sharing and exclusion or removal orders consistent with the Federal Acquisition Supply Chain Security Act of 2018 and a final rule issued by the Federal Acquisition Security Council. The deadline for submitting comments is being extended from December 4, 2023, to February 2, 2024, to provide additional time for interested parties to provide comments on the proposed rule. The effective date of this rule is not being changed and remains December 4, 2023.

DATES: For the interim rule published on October 5, 2023 (88 FR 69503), the deadline to submit comments is extended. Submit comments by February 2, 2024.

ADDRESSES: Submit comments in response to FAR Case 2020-011 via the Federal eRulemaking portal at https://www.regulations.gov by searching for “FAR Case 2020-011”. Select the link “Comment Now” that corresponds with FAR Case 2020-011. Follow the instructions provided at the “Comment Now” screen. Please include your name, company name (if any), and “FAR Case 2020-011” on your attached document. If your comment cannot be submitted using https://www.regulations.gov, call or email the points of contact in the FOR FURTHER INFORMATION CONTACT section of this document for alternate instructions.

Instructions: Please submit comments only and cite “FAR Case 2020-011” in all correspondence related to this case.

Comments received generally will be posted without change to https://www.regulations.gov, including any personal and/or business confidential information provided. Public comments may be submitted as an individual, as an organization, or anonymously (see frequently asked questions at https://www.regulations.gov/faq). To confirm receipt of your comment(s), please check https://www.regulations.gov, approximately two-to-three days after submission to verify posting.

FOR FURTHER INFORMATION CONTACT: For clarification of content, contact Ms. Marissa Ryba, Procurement Analyst, at 314-586-1280 or marissa.ryba@gsa.gov. For information pertaining to status, publication schedules, or alternate instructions for submitting comments if https://www.regulations.gov cannot be used, contact the Regulatory Secretariat Division at 202-501-4755 or GSARegSec@gsa.gov. Please cite FAC 2023-06, FAR Case 2020-011.

SUPPLEMENTARY INFORMATION:

I. Background

DoD, GSA and NASA published an interim rule in the Federal Register at 88 FR 69503 on October 5, 2023. The comment period is extended to February 2, 2024, to allow additional time for interested parties to develop comments on the rule. The effective date of this rule is not being changed and remains December 4, 2023.

List of Subjects in 48 CFR Parts 1, 4, 9, 13, 39, and 52

Government procurement.

William F. Clark,
Director, Office of Government-wide Acquisition Policy, Office of Acquisition Policy, Office of Government-wide Policy.

[FR Doc. 2023-26046 Filed 11-27-23; 8:45 am]

BILLING CODE 6820-EP-P